Title 3—

The President

Proclamation 10469 of October 7, 2022

Fire Prevention Week, 2022

By the President of the United States of America

A Proclamation

In 1920, President Woodrow Wilson proclaimed October 9th the first Fire Prevention Day, calling on the public to learn more about the risks of deadly fires and commemorating the thousands who had lost their lives to these tragedies. More than a century later, our Nation observes Fire Prevention Week by renewing our commitment to fire safety and preparedness and taking steps to prevent fires in our homes, schools, workplaces, and the great outdoors. We also honor the bravery and heroism of our firefighters, who gear up time and again and rush into harm's way to protect our communities.

In the past year, our Nation has suffered some of its deadliest fires in recent history. Americans have lost their homes and their businesses. Thousands have tragically lost their lives. Wildfires are becoming more frequent and ferocious, destroying neighborhoods and natural resources and displacing families and communities. Super-charged by the climate crisis—which has exacerbated drought conditions and increased temperatures—these devastating wildfires have wiped out millions of acres of forest and so many homes.

Whenever the First Lady and I visit with families in the aftermath of a fire, we witness their incredible courage and resolve—even though, in many cases, they have just lost everything. We see people step up for one another, neighbors take each other in, and local businesses donate essential goods to those in need. With each visit, we are also reminded of the character of our Nation's firefighters, who put their lives on the line with remarkable selflessness and extraordinary bravery that inspire everyone.

For our firefighters and our communities, we have a responsibility to act now and act fast to mitigate the risk of wildfires. My Administration is investing billions from our Bipartisan Infrastructure Law in forest management, including the management of hazardous fuels in high-risk areas and funding the Community Wildfire Defense Grants, which are intended to help at-risk local communities and Tribes plan and reduce the risk against wildfire, and we are safeguarding mature and old-growth forests on Federal lands, a key component of decreasing fire risk. Through our Inflation Reduction Act, we are taking unprecedented steps to protect forest health, prevent fires, and confront the climate crisis—ushering in a new era of clean energy and reducing greenhouse gas emissions by a billion metric tons.

We are standing by our brave firefighters by substantially increasing wages for Federal wildland firefighters, and have implemented new programs to support their mental and physical health, and established a wildland firefighter job series that will help improve recruitment, retention, and opportunities for professional growth. We invested $350 billion from our American Rescue Plan to help States and cities keep first responders like firefighters on the job during the COVID-19 pandemic. To help States pay for the cost of fighting wildfires and help communities increase resilience, the Federal Emergency Management Agency (FEMA) has also approved dozens of Fire Management Assistance Grants and is providing over one billion dollars through its Building Resilient Infrastructure and Communities (BRIC) program.

To build on these actions, my Administration is educating the public on fire safety. This week's theme—“Fire won't wait. Plan your escape”—emphasizes how we must all prepare fire escape plans, test smoke and carbon monoxide alarms every month and replace them every 10 years, implement appropriate building codes, and when possible, install residential fire sprinklers. For those who live in areas susceptible to wildfire, regularly clearing brush and other vegetation around your homes is another important way to stay safe.

With every home, school, and business destroyed in a fire, precious memories are lost, livelihoods are jeopardized, and dreams are crushed. This National Fire Prevention Week, let us reflect on the importance of remaining vigilant and learning more about fire safety. Let us acknowledge the remarkable service of our Nation's firefighters and honor the memory of those who have lost their lives protecting others. And let us all work to make these heroes' jobs more manageable, keep our neighbors safer, and reduce the risk of fires across our country.

NOW, THEREFORE, I, JOSEPH R. BIDEN JR., President of the United States of America, by virtue of the authority vested in me by the Constitution and the laws of the United States, do hereby proclaim October 9 through October 15, 2022, as Fire Prevention Week. On Sunday, October 9, 2022, in accordance with Public Law 107-51, the flag of the United States will be flown at half-staff at all Federal office buildings in honor of the National Fallen Firefighters Memorial Service. I call on all Americans to participate in this observance with appropriate programs and activities and by renewing their efforts to prevent fires and their tragic consequences.

IN WITNESS WHEREOF, I have hereunto set my hand this seventh day of October, in the year of our Lord two thousand twenty-two, and of the Independence of the United States of America the two hundred and forty-seventh.

[FR Doc. 2022-22405

Filed 10-12-22; 8:45 am]

Billing code 3395-F3-P